DEPARTMENT OF COMMERCE

National Oceanic and Atmospheric Administration

50 CFR Part 648

[Docket No. 011005244-2011-02; I.D. 120902F]

Fisheries of the Northeastern United States; Atlantic Mackerel, Squid, and Butterfish Fisheries; Reopening of Directed Fishery for Loligo Squid

AGENCY: National Marine Fisheries Service (NMFS), National Oceanic and Atmospheric Administration (NOAA), Commerce.

ACTION: Directed fishery reopening.

SUMMARY: NMFS announces that commercial quota is available to allow the directed fishery for Loligo squid to remain open. Vessels issued a Federal moratorium permit to harvest Loligo squid in excess of the incidental catch allowance may continue landing Loligo squid after 0001 hours, December 12, 2002. The intent of this action is to allow for the full utilization of the commercial quota allocated to the Loligo squid directed fishery.

DATES: Effective 0001 hours, December 12, 2002, through December 31, 2002.

FOR FURTHER INFORMATION CONTACT: Paul H. Jones, Fishery Policy Analyst, 978-281-9273, fax 978-281-9135, e-mail paul.h.jones@noaa.gov.

SUPPLEMENTARY INFORMATION: Section 648.22 of part 50 CFR requires NMFS to close the directed Loligo squid fishery in the EEZ for the remainder of the year when 95 percent of the total annual domestic annual harvest (DAH) has been harvested. The Administrator, Northeast Region, NMFS, based on dealer reports and other available information, determined that 95 percent of the total DAH for Loligo squid would be harvested by November 2, 2002 (67 FR 66072, October 30, 2002). Therefore, effective 0001 hours, November 2, 2002, the directed fishery for Loligo squid was closed. However, the closure threshold level of Loligo harvest was not attained, and NMFS reopened the directed Loligo squid fishery from 0001 hours, December 2, 2002, through 0001 hours, December 12, 2002 (67 FR 70556, November 25, 2002). Due to recent bad weather, new projections indicate the closure threshold level of Loligo harvest may not be attained. Therefore, NMFS announces that the directed Loligo squid fishery will remain open. Vessels issued a Federal moratorium permit to harvest Loligo squid in excess of the incidental catch allowance may continue fishing for, retaining and landing Loligo squid in excess of the incidental catch allowance after 0001 hours, December 12, 2002, through December 31, 2002.

Classification

This action is required by 50 CFR part 648 and is exempt from review under Executive Order 12866.

Authority: 16 U.S.C. 1801 et seq.

Dated: December 10, 2002.
John H. Dunnigan,
Director, Office of Sustainable Fisheries, National Marine Fisheries Service.

[FR Doc. 02-31444 Filed 12-10-02; 2:41 pm]

BILLING CODE 3510-22-S